DEPARTMENT OF TRANSPORTATION

Federal Aviation Administration

14 CFR Part 97

[Docket No. 31432; Amdt. No. 4012]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective June 13, 2022. The compliance date for each SIAP, associated Takeoff Minimums, and ODP is specified in the amendatory provisions.

The incorporation by reference of certain publications listed in the regulations is approved by the Director of the Federal Register as of June 13, 2022.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73169. Telephone: (405) 954-4164.

SUPPLEMENTARY INFORMATION:

This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for Part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on May 27, 2022.
Thomas J. Nichols,
Aviation Safety, Flight Standards Service, Manager, Standards Section, Flight Procedures & Airspace Group, Flight Technologies & Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for Part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
14-Jul-22 | KY | Glasgow | Glasgow Muni | 2/0109 | 3/11/22 | RNAV (GPS) RWY 26, Amdt 2A.
14-Jul-22 | KY | Glasgow | Glasgow Muni | 2/0110 | 3/11/22 | RNAV (GPS) RWY 8, Amdt 2C.
14-Jul-22 | UT | Delta | Delta Muni | 2/0126 | 5/11/22 | VOR/DME RWY 17, Amdt 2A.
14-Jul-22 | MT | Billings | Billings Logan Intl | 2/0159 | 3/17/22 | ILS OR LOC RWY 28R, Amdt 3A.
14-Jul-22 | MT | Billings | Billings Logan Intl | 2/0160 | 3/17/22 | ILS Y OR LOC Y RWY 10L, Amdt 26A.
14-Jul-22 | MT | Billings | Billings Logan Intl | 2/0161 | 3/17/22 | RNAV (GPS) RWY 7, Amdt 2A.
14-Jul-22 | MT | Billings | Billings Logan Intl | 2/0162 | 3/17/22 | RNAV (GPS) RWY 10L, Amdt 4A.
14-Jul-22 | MT | Billings | Billings Logan Intl | 2/0163 | 3/17/22 | RNAV (GPS) RWY 25, Amdt 2A.
14-Jul-22 | MT | Billings | Billings Logan Intl | 2/0164 | 3/17/22 | RNAV (GPS) Y RWY 28R, Amdt 4A.
14-Jul-22 | AR | Clinton | Holley Mountain Airpark | 2/0317 | 5/19/22 | RNAV (GPS) RWY 23, Amdt 1C.
14-Jul-22 | AR | Clinton | Holley Mountain Airpark | 2/0318 | 5/19/22 | RNAV (GPS) RWY 5, Amdt 1C.
14-Jul-22 | PA | Wilkes-Barre | Wilkes-Barre Wyoming Valley | 2/0354 | 5/19/22 | RNAV (GPS) RWY 25, Orig-D.
14-Jul-22 | PA | Wilkes-Barre | Wilkes-Barre Wyoming Valley | 2/0355 | 5/19/22 | RNAV (GPS) RWY 7, Orig-C.
14-Jul-22 | LA | Shreveport | Shreveport Downtown | 2/0670 | 4/22/22 | RNAV (GPS) RWY 5, Orig.
14-Jul-22 | LA | Shreveport | Shreveport Downtown | 2/0671 | 4/22/22 | RNAV (GPS) RWY 23, Orig-A.
14-Jul-22 | AR | Berryville | Carroll County | 2/0997 | 3/10/22 | RNAV (GPS) RWY 25, Amdt 1.
14-Jul-22 | TX | Mc Allen | Mc Allen Miller Intl | 2/1130 | 5/10/22 | ILS OR LOC RWY 14, Amdt 9A.
14-Jul-22 | TX | Mc Allen | Mc Allen Miller Intl | 2/1136 | 5/10/22 | RNAV (GPS) RWY 14, Amdt 1.
14-Jul-22 | SC | Darlington | Darlington County | 2/1209 | 5/6/22 | VOR-A, Amdt 7B.
14-Jul-22 | OK | Pryor | Mid-America Industrial | 2/1233 | 3/31/22 | RNAV (GPS) RWY 36, Orig-A.
14-Jul-22 | OK | Pryor | Mid-America Industrial | 2/1234 | 3/31/22 | RNAV (GPS) RWY 18, Orig.
14-Jul-22 | HI | Hilo | Hilo Intl | 2/1281 | 4/6/22 | VOR-B, Orig-D.
14-Jul-22 | AK | Perryville | Perryville | 2/1285 | 4/6/22 | RNAV (GPS) RWY 2, Amdt 1.
14-Jul-22 | CA | Concord | Buchanan Fld | 2/1297 | 3/31/22 | LDA RWY 19R, Amdt 9A.
14-Jul-22 | CA | Concord | Buchanan Fld | 2/1299 | 3/31/22 | VOR RWY 19R, Amdt 14A.
14-Jul-22 | CA | San Jose | Norman Y Mineta San Jose Intl | 2/1550 | 4/6/22 | RNAV (GPS) Y RWY 30R, Amdt 4.
14-Jul-22 | TX | Austin | Austin-Bergstrom Intl | 2/1557 | 4/22/22 | ILS OR LOC RWY 18L, Amdt 4.
14-Jul-22 | TX | Austin | Austin-Bergstrom Intl | 2/1558 | 4/22/22 | ILS OR LOC RWY 36R, Amdt 4B.
14-Jul-22 | TX | Austin | Austin-Bergstrom Intl | 2/1573 | 4/22/22 | RNAV (GPS) Y RWY 18L, Amdt 3.
14-Jul-22 | TX | Austin | Austin-Bergstrom Intl | 2/1574 | 4/22/22 | RNAV (GPS) Y RWY 18R, Amdt 3.
14-Jul-22 | TX | Austin | Austin-Bergstrom Intl | 2/1575 | 4/22/22 | RNAV (GPS) Y RWY 36L, Amdt 3.
14-Jul-22 | TX | Austin | Austin-Bergstrom Intl | 2/1577 | 4/22/22 | RNAV (GPS) Y RWY 36R, Amdt 2A.
14-Jul-22 | ND | Langdon | Robertson Fld | 2/1680 | 5/16/22 | RNAV (GPS) RWY 14, Orig.
14-Jul-22 | AK | Valdez | Valdez Pioneer Fld | 2/1709 | 5/13/22 | LDA-H, Amdt 2C.
14-Jul-22 | CA | Long Beach | Long Beach (Daugherty Fld) | 2/1788 | 5/12/22 | VOR OR TACAN RWY 30, Amdt 9.
14-Jul-22 | AK | Mc Grath | Mc Grath | 2/1847 | 5/6/22 | LOC/DME RWY 16, Amdt 3B.
14-Jul-22 | AK | Mc Grath | Mc Grath | 2/1848 | 5/6/22 | VOR/DME-C, Amdt 2A.
14-Jul-22 | AK | Mc Grath | Mc Grath | 2/1849 | 5/6/22 | RNAV (GPS) RWY 16, Amdt 1B.
14-Jul-22 | AL | Centre | Centre-Piedmont-Cherokee County Rgnl | 2/1971 | 5/19/22 | RNAV (GPS) RWY 25, Amdt 1A.
14-Jul-22 | AL | Centre | Centre-Piedmont-Cherokee County Rgnl | 2/1972 | 5/19/22 | RNAV (GPS) RWY 7, Amdt 1A.
14-Jul-22 | FL | St Petersburg | Albert Whitted | 2/2021 | 5/19/22 | RNAV (GPS) RWY 7, Amdt 3D.
14-Jul-22 | OK | Woodward | West Woodward | 2/2275 | 5/16/22 | VOR/DME-A, Amdt 7B.
14-Jul-22 | AK | Kobuk | Kobuk | 2/2383 | 4/6/22 | RNAV (GPS) RWY 27, Orig-B.
14-Jul-22 | NY | Jamestown | Chautauqua County/Jamestown | 2/2560 | 5/6/22 | ILS OR LOC RWY 25, Amdt 8.
14-Jul-22 | NY | Jamestown | Chautauqua County/Jamestown | 2/2562 | 5/6/22 | VOR RWY 25, Amdt 8B.
14-Jul-22 | AL | Vernon | Lamar County | 2/2582 | 5/19/22 | RNAV (GPS) RWY 17, Orig-A.
14-Jul-22 | AL | Vernon | Lamar County | 2/2583 | 5/19/22 | RNAV (GPS) RWY 35, Orig-A.
14-Jul-22 | OK | Tulsa | Tulsa Riverside | 2/3060 | 4/25/22 | VOR/DME-A, Amdt 7B.
14-Jul-22 | NC | Elizabeth City | Elizabeth City Cg Air Station/Rgnl | 2/3153 | 4/14/22 | VOR/DME RWY 19, Amdt 10H.
14-Jul-22 | NC | Elizabeth City | Elizabeth City Cg Air Station/Rgnl | 2/3154 | 4/14/22 | VOR/DME RWY 28, Amdt 1D.
14-Jul-22 | NC | Elizabeth City | Elizabeth City Cg Air Station/Rgnl | 2/3155 | 4/14/22 | ILS OR LOC RWY 10, Amdt 1C.
14-Jul-22 | NC | Elizabeth City | Elizabeth City Cg Air Station/Rgnl | 2/3169 | 4/14/22 | VOR/DME RWY 10, Orig-F.
14-Jul-22 | VT | Highgate | Franklin County State | 2/3183 | 4/28/22 | RNAV (GPS) RWY 1, Amdt 3B.
14-Jul-22 | MN | Brainerd | Brainerd Lakes Rgnl | 2/3398 | 5/12/22 | ILS OR LOC/DME RWY 34, Amdt 2A.
14-Jul-22 | NY | Jamestown | Chautauqua County/Jamestown | 2/3873 | 5/6/22 | RNAV (GPS) RWY 31, Orig-B.
14-Jul-22 | NY | Jamestown | Chautauqua County/Jamestown | 2/3874 | 5/6/22 | RNAV (GPS) RWY 25, Amdt 1C.
14-Jul-22 | NY | Jamestown | Chautauqua County/Jamestown | 2/3875 | 5/6/22 | RNAV (GPS) RWY 13, Orig-B.
14-Jul-22 | NY | Jamestown | Chautauqua County/Jamestown | 2/3876 | 5/6/22 | RNAV (GPS) RWY 7, Amdt 1B.
14-Jul-22 | AR | Ash Flat | Sharp County Rgnl | 2/3958 | 5/19/22 | RNAV (GPS) RWY 4, Orig-B.
14-Jul-22 | PA | Factoryville | Seamans Fld | 2/4031 | 5/19/22 | RNAV (GPS) RWY 4, Orig.
14-Jul-22 | MN | Albert Lea | Albert Lea Muni | 2/4052 | 5/16/22 | RNAV (GPS) RWY 35, Amdt 1C.
14-Jul-22 | NC | Lincolnton | Lincolnton-Lincoln County Rgnl | 2/4349 | 4/15/22 | ILS Z OR LOC Z RWY 23, Orig-C.
14-Jul-22 | VT | Barre/Montpelier | Edward F Knapp State | 2/4505 | 3/16/22 | ILS OR LOC RWY 17, Amdt 7B.
14-Jul-22 | VT | Barre/Montpelier | Edward F Knapp State | 2/4512 | 3/16/22 | RNAV (GPS) RWY 17, Amdt 1A.
14-Jul-22 | SC | Charleston | Charleston Afb/Intl | 2/4549 | 4/15/22 | RNAV (RNP) Z RWY 33, Amdt 1.
14-Jul-22 | WV | Point Pleasant | Mason County | 2/4969 | 4/28/22 | RNAV (GPS) RWY 25, Orig.
14-Jul-22 | WV | Point Pleasant | Mason County | 2/4970 | 4/28/22 | RNAV (GPS) RWY 7, Orig.
14-Jul-22 | NC | Wilson | Wilson Industrial Air Center | 2/4982 | 5/6/22 | RNAV (GPS) RWY 9, Amdt 1A.
14-Jul-22 | NC | Wilson | Wilson Industrial Air Center | 2/4983 | 5/6/22 | RNAV (GPS) RWY 15, Amdt 1A.
14-Jul-22 | NC | Wilson | Wilson Industrial Air Center | 2/4984 | 5/6/22 | RNAV (GPS) RWY 33, Orig-C.
14-Jul-22 | AR | Ash Flat | Sharp County Rgnl | 2/4987 | 5/19/22 | RNAV (GPS) RWY 22, Orig-B.
14-Jul-22 | KY | Louisville | Bowman Fld | 2/5046 | 4/15/22 | NDB RWY 33, Amdt 16C.
14-Jul-22 | KY | Louisville | Bowman Fld | 2/5047 | 4/15/22 | RNAV (GPS) RWY 33, Orig-C.
14-Jul-22 | LA | Shreveport | Shreveport Downtown | 2/5098 | 4/22/22 | LOC RWY 14, Amdt 5.
14-Jul-22 | MD | Fort Meade(Odenton) | Tipton | 2/5134 | 2/16/22 | RNAV (GPS) RWY 28, Amdt 1C.
14-Jul-22 | KS | Oakley | Oakley Muni | 2/5179 | 5/18/22 | RNAV (GPS) RWY 34, Orig-B.
14-Jul-22 | KS | Oakley | Oakley Muni | 2/5182 | 5/18/22 | NDB RWY 34, Amdt 3B.
14-Jul-22 | WI | Reedsburg | Reedsburg Muni | 2/5440 | 4/11/22 | Takeoff Minimums and Obstacle DP, Amdt 2.
14-Jul-22 | LA | Shreveport | Shreveport Downtown | 2/5707 | 4/22/22 | RNAV (GPS) RWY 14, Amdt 1B.
14-Jul-22 | TX | Brownwood | Brownwood Rgnl | 2/5820 | 2/23/22 | RNAV (GPS) RWY 17, Amdt 1B.
14-Jul-22 | NM | Farmington | Four Corners Rgnl | 2/5835 | 3/18/22 | VOR/DME RWY 5, Orig-A.
14-Jul-22 | OH | Kent | Kent State University | 2/6095 | 2/23/22 | NDB RWY 1, Amdt 13C.
14-Jul-22 | OH | Kent | Kent State University | 2/6096 | 2/23/22 | VOR-A, Amdt 14.
14-Jul-22 | OH | Kent | Kent State University | 2/6097 | 2/23/22 | RNAV (GPS) RWY 1, Amdt 2A.
14-Jul-22 | OH | Kent | Kent State University | 2/6098 | 2/23/22 | RNAV (GPS) RWY 19, Amdt 1C.
14-Jul-22 | MT | Hamilton | Ravalli County | 2/6165 | 3/21/22 | RNAV (GPS) RWY 17, Orig.
14-Jul-22 | MT | Hamilton | Ravalli County | 2/6169 | 3/21/22 | RNAV (GPS)-A, Orig.
14-Jul-22 | SC | Beaufort | Beaufort Exec | 2/6712 | 5/6/22 | RADAR-1, Amdt 3A.
14-Jul-22 | AL | Hamilton | Marion County-Rankin Fite | 2/6715 | 5/6/22 | RNAV (GPS) RWY 18, Orig-C.
14-Jul-22 | AL | Hamilton | Marion County-Rankin Fite | 2/6716 | 5/6/22 | RNAV (GPS) RWY 36, Orig-A.
14-Jul-22 | VA | South Boston | William M Tuck | 2/7100 | 4/15/22 | Takeoff Minimums and Obstacle DP, Amdt 3A.
14-Jul-22 | NC | Hickory | Hickory Rgnl | 2/7231 | 5/6/22 | VOR/DME RWY 24, Orig-E.
14-Jul-22 | IN | Indianapolis | Indianapolis Rgnl | 2/7257 | 5/5/22 | VOR RWY 34, Amdt 2D.
14-Jul-22 | MI | Iron Mountain Kingsford | Ford | 2/7509 | 5/4/22 | LOC/DME BC RWY 19, Amdt 13B.
14-Jul-22 | PA | Palmyra | Reigle Fld | 2/7513 | 5/6/22 | RNAV (GPS)-A, Orig.
14-Jul-22 | MD | Frederick | Frederick Muni | 2/7991 | 4/28/22 | ILS OR LOC RWY 23, Amdt 6.
14-Jul-22 | FL | Lakeland | Lakeland Linder Intl | 2/8521 | 3/7/22 | RNAV (GPS) RWY 23, Orig-F.
14-Jul-22 | AL | Scottsboro | Scottsboro Muni-Word Fld | 2/8674 | 5/6/22 | RNAV (GPS) RWY 22, Orig-A.
14-Jul-22 | AL | Scottsboro | Scottsboro Muni-Word Fld | 2/8675 | 5/6/22 | RNAV (GPS) RWY 4, Orig-A.
14-Jul-22 | MT | Wolf Point | L M Clayton | 2/9090 | 5/11/22 | RNAV (GPS) RWY 11, Amdt 1A.
14-Jul-22 | AK | Kiana | Bob Baker Meml | 2/9218 | 3/2/22 | RNAV (GPS) RWY 25, Amdt 1.
14-Jul-22 | ND | Williston | Williston Basin Intl | 2/9230 | 3/2/22 | VOR RWY 22, Orig.
14-Jul-22 | ND | Williston | Williston Basin Intl | 2/9231 | 3/2/22 | RNAV (GPS) RWY 22 , Orig.
14-Jul-22 | MN | Detroit Lakes | Detroit Lakes/Wething Fld | 2/9332 | 3/2/22 | RNAV (GPS) RWY 32, Amdt 2A.
14-Jul-22 | MT | Wolf Point | L M Clayton | 2/9494 | 5/11/22 | RNAV (GPS) RWY 29, Amdt 1A.
14-Jul-22 | MT | Roundup | Roundup | 2/9501 | 5/11/22 | RNAV (GPS) RWY 25, Orig-B.
14-Jul-22 | MT | Roundup | Roundup | 2/9503 | 5/11/22 | RNAV (GPS) RWY 7, Orig-A.
14-Jul-22 | WY | Cowley/Lovell/Byron | North Big Horn County | 2/9529 | 3/29/22 | RNAV (GPS) RWY 9, Orig-A.
14-Jul-22 | WY | Cowley/Lovell/Byron | North Big Horn County | 2/9530 | 3/29/22 | NDB RWY 9, Amdt 2A.
14-Jul-22 | KS | Smith Center | Smith Center Muni | 2/9554 | 3/25/22 | RNAV (GPS) RWY 32, Orig-C.
14-Jul-22 | KS | Smith Center | Smith Center Muni | 2/9555 | 3/25/22 | RNAV (GPS) RWY 14, Orig-C.
14-Jul-22 | FL | Stuart | Witham Fld | 2/9587 | 5/6/22 | RNAV (GPS) RWY 30, Amdt 1A.
14-Jul-22 | SC | Beaufort | Beaufort Exec | 2/9744 | 5/6/22 | RNAV (GPS) RWY 25, Amdt 2.
14-Jul-22 | SC | Beaufort | Beaufort Exec | 2/9745 | 5/6/22 | RNAV (GPS) RWY 7, Amdt 1B.

[FR Doc. 2022-12550 Filed 6-10-22; 8:45 am]

BILLING CODE 4910-13-P